DEPARTMENT OF JUSTICE

Parole Commission

Sunshine Act Notice

Public Announcement; Pursuant to the Government in the Sunshine Act (Public Law 94-409) [5 U.S.C. Section 552b]

Agency Holding Meeting Department of Justice, United States Parole Commission.

Time and Date 10 a.m., December 7, 2010.

Place 5550 Friendship Blvd., Fourth Floor, Chevy Chase, MD 20815.

Status Open.

Matters To Be Considered The following matters have been placed on the agenda for the open Parole Commission meeting:

1. Approval of Minutes September 9, 2010 Quarterly Business Meeting.

2. Reports from the Chairman, Commissioners and Section Administrators.

3. Revision of Original Jurisdiction Rule and Addition of a Rule on Tie Votes.

Agency Contact Patricia W. Moore, Staff Assistant to the Chairman, United States Parole Commission, (301) 492-5933.

Dated: November 29, 2010.
Rockne J. Chickinell
General Counsel, U.S. Parole Commission.

[FR Doc. 2010-30346 Filed 12-3-10; 8:45 am]

BILLING CODE 4410-31-M